DEPARTMENT OF THE INTERIOR

National Park Service

[N6343; NPS-WASO-NAGPRA-NPS0040598; PPWOCRADN0-PCU00RP14.R50000]

Notice of Inventory Completion: History Colorado, Denver, CO

AGENCY: National Park Service, Interior.

ACTION: Notice.

SUMMARY: In accordance with the Native American Graves Protection and Repatriation Act (NAGPRA), History Colorado has completed an inventory of human remains and associated funerary objects and has determined that there is a cultural affiliation between the human remains and associated funerary objects and Indian Tribes or Native Hawaiian organizations in this notice.

DATES: Repatriation of the human remains and associated funerary objects in this notice may occur on or after August 28, 2025.

ADDRESSES: Send written requests for repatriation of the human remains and associated funerary objects in this notice to Chance Ward, NAGPRA Collections Specialist, History Colorado, 1200 N Broadway, Denver, CO 80203, email chance.ward@state.co.us.

SUPPLEMENTARY INFORMATION: This notice is published as part of the National Park Service's administrative responsibilities under NAGPRA. The determinations in this notice are the sole responsibility of History Colorado, and additional information on the determinations in this notice, including the results of consultation, can be found in its inventory or related records. The National Park Service is not responsible for the determinations in this notice.

Abstract of Information Available

Human remains representing, at least, five individuals have been identified. The one associated funerary object is a string of beads.

OAHP case 349: From Jefferson County. One ancestor. No funerary objects. A private citizen said their grandparent collected Native American art and this ancestor was in a private collection that was purchased years ago. No other information is known.

OAHP case 356: From Logan County. One ancestor and one associated funerary object. The associated funerary object is a string of beads. A private citizen said their parent collected the remains decades ago from a site in Logan County. No other information is known.

OAHP case 359: From Pueblo County. Two ancestors. No funerary objects. Reported as a burial exposed on a hillside due to erosion. No other information is known.

OAHP case 367: From Boulder County. One ancestor. No funerary objects. A rancher was prepping his agricultural field and exposed ancestral human remains. No other information is known.

Cultural Affiliation

Based on the information available and the results of consultation, cultural affiliation is reasonably identified by the geographical location and/or acquisition history of the human remains and associated funerary objects in this notice.

Determinations

The History Colorado has determined that:

• The human remains described in this notice represent the physical remains of five individuals of Native American ancestry.

• The one object described in this notice are reasonably believed to have been placed intentionally with or near individual human remains at the time of death or later as part of the death rite or ceremony.

• There is a connection between the human remains and associated funerary objects described in this notice and the Pawnee Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 28, 2025. If competing requests for repatriation are received, History Colorado must determine the most appropriate requestor prior to repatriation. Requests for joint repatriation of the human remains and associated funerary objects are considered a single request and not competing requests. History Colorado is responsible for sending a copy of this notice to the Indian Tribes and Native Hawaiian organizations identified in this notice and any other consulting parties.

Authority: Native American Graves Protection and Repatriation Act, 25 U.S.C. 3003, and the implementing regulations, 43 CFR 10.10.

Dated: July 9, 2025.
Melanie O'Brien,
Manager, National NAGPRA Program.

[FR Doc. 2025-14266 Filed 7-28-25; 8:45 am]

BILLING CODE 4312-52-P